DEPARTMENT OF ENERGY

Federal Energy Regulatory Commission

Combined Notice of Filings

Take notice that the Commission has received the following Natural Gas Pipeline Rate and Refund Report filings:

Filings Instituting Proceedings

Docket Numbers: PR16-10-000.

Applicants: Columbia Gas of Ohio, Inc.

Description: Tariff filing per 284.123(b)(1)/.: COH SOC to be effective 11/30/2015; Filing Type: 980.

Filed Date: 12/24/15.

Accession Number: 201512245052.

Comments/Protests Due: 5 p.m. ET 1/14/16.

Docket Numbers: RP16-356-000.

Applicants: Equitrans, L.P.

Description: Section 4(d) Rate Filing: Negotiated Capacity Release Agreements—01/01/2016 to be effective 1/1/2016.

Filed Date: 1/4/16.

Accession Number: 20160104-5440.

Comments Due: 5 p.m. ET 1/19/16.

Docket Numbers: RP16-357-000.

Applicants: Iroquois Gas Transmission System, L.P.

Description: Section 4(d) Rate Filing: 01/04/16 Negotiated Rates—Mercuria Energy Gas Trading LLC (RTS) 7540-02 to be effective 1/1/2016.

Filed Date: 1/4/16.

Accession Number: 20160104-5447.

Comments Due: 5 p.m. ET 1/19/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-140-001.

Applicants: Eastern Shore Natural Gas Company.

Description: Compliance filing Filing to Comply with Order Accepting Non-Conforming Agreement to be effective 11/30/2015.

Filed Date: 12/22/15.

Accession Number: 20151222-5143.

Comments Due: 5 p.m. ET 1/4/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 5, 2016.
Nathaniel J. Davis, Sr.,
Deputy Secretary.

[FR Doc. 2016-00286 Filed 1-8-16; 8:45 am]

BILLING CODE 6717-01-P